DEPARTMENT OF TRANSPORTATION

National Highway Traffic Safety Administration

[Docket No. NHTSA-2013-0022; Notice 1]

Notice of Receipt of Petition for Decision That Nonconforming 2010 BMW Z4 Passenger Cars Are Eligible for Importation

AGENCY: National Highway Traffic Safety Administration, DOT.

ACTION: Notice of receipt of petition.

SUMMARY: This document announces receipt by the National Highway Traffic Safety Administration (NHTSA) of a petition for a decision that 2010 BMW Z4 passenger cars that were not originally manufactured to comply with all applicable Federal Motor Vehicle Safety Standards (FMVSS), are eligible for importation into the United States because they are substantially similar to vehicles that were originally manufactured for sale in the United States and that were certified by their manufacturer as complying with the safety standards (the U.S.-certified version of the 2010 BMW Z4) and they are capable of being readily altered to conform to the standards.

DATE: The closing date for comments on the petition is May 6, 2013.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How To Read Comments Submitted to the Docket: You may read the comments received by Docket Management at the address and times given above. You may also view the documents from the Internet at http://www.regulations.gov. Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. § 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC (“JK”), of Baltimore, Maryland (Registered Importer 90-006) has petitioned NHTSA to decide whether nonconforming 2010 BMW Z4 passenger cars are eligible for importation into the United States. The vehicles which JK believes are substantially similar are 2010 BMW Z4 passenger cars that were manufactured for sale in the United States and certified by their manufacturer as conforming to all applicable FMVSS.

The petitioner claims that it compared the non-U.S. certified 2010 BMW Z4 to its U.S.-certified counterpart, and found the vehicles to be substantially similar with respect to compliance with most FMVSS.

JK submitted information with its petition intended to demonstrate that the non-U.S. certified 2010 BMW Z4, as originally manufactured, conforms to many FMVSS in the same manner as its U.S. certified counterpart, or is capable of being readily altered to conform to those standards. Specifically, the petitioner claims that the non-U.S. certified 2010 BMW Z4 is identical to its U.S. certified counterpart with respect to compliance with Standard Nos. 102 Transmission Shift Lever Sequence, Starter Interlock, and Transmission Braking Effect, 103 Windshield Defrosting and Defogging Systems, 104 Windshield Wiping and Washing Systems, 106 Brake Hoses, 113 Hood Latch System, 116 Motor Vehicle Brake Fluids, 124 Accelerator Control Systems, 135 Light Vehicle Brake Systems, 139 New Pneumatic Radial Tires for Light Vehicles, 201 Occupant Protection in Interior Impact, 202 Head Restraints, 205 Glazing Materials, 206 Door Locks and Door Retention Components, 210 Seat Belt Assembly Anchorages, 212 Windshield Mounting, 214 Side Impact Protection, 216 Roof Crush Resistance, 219 Windshield Zone Intrusion, 225 Child Restraint Anchorage Systems, and 302 Flammability of Interior Materials.

The petitioner also contends that the vehicle is capable of being readily altered to meet the following standards, in the manner indicated:

Standard No. 101 Controls and Displays: replacement of the instrument cluster with a U.S.-model component and reprogramming the unit to reflect the correct mileage on the vehicle.

Standard No. 108 Lamps, Reflective Devices and Associated Equipment: installation of the following U.S.-model components on vehicles not already so equipped: (a) headlamps; (b) front side marker lamps; and (c) rear stop lamps that incorporate rear side marker lamps, and reprogramming the vehicle computer to activate the required systems.

Standard No. 110 Tire Selection and Rims: installation of a tire information placard.

Standard No. 111 Rearview Mirrors: installation of a U.S.-model passenger side rearview mirror, or inscription of the required warning statement on the face of the existing mirror.

Standard No. 114 Theft Protection: reprogramming the vehicle computer to activate the key warning and belt warning systems.

Standard No. 118 Power-Operated Window, Partition, and Roof Panel Systems: reprogramming the vehicle computer to meet this standard.

Standard No. 138 Tire Pressure Monitoring Systems: replacement of non-U.S. model components with U.S. model components, including wheel sensors, malfunction indicators, and instrument cluster as well as reprogramming the vehicle computer to meet this standard.

Standard No. 204 Steering Control Rearward Displacement: installation of the U.S.-model steering column and shaft as part of the advanced airbag system.

Standard No. 207 Seating Systems: replacement of driver and passenger seats with U.S.-model components to meet this standard and address requirements for advanced airbag systems.

Standard No. 208 Occupant Crash Protection: reprogramming the vehicle computer to activate the seat belt warning lamp and installation of the following U.S.-model components on vehicles not already so equipped: (a) airbags; (b) seatbelts; (c) sensors; (d) control units (ECU); (e) wiring harnesses; (f) knee bolsters; and (g) braces.

Standard No. 209 Seat Belt Assemblies: replacement of seatbelts with U.S. model parts.

Standard No. 301 Fuel System Integrity: installation of a rollover and check valve.

Standard No. 401 Interior Trunk Release: installation of the U.S.-model interior trunk release system.

The petitioner states that the support structure for the bumpers on these vehicles is identical to those on the U.S. model. However, the bumper shocks and brackets must be added to meet the requirements of the Bumper Standard at 49 CFR Part 581.

The petitioner additionally states that a vehicle identification plate must be affixed to the vehicles near the left windshield post to meet the requirements of 49 CFR Part 565 and that a certification label must be affixed to the driver's door jamb to meet the requirements of 49 CFR Part 567.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: March 29, 2013.
Claude H. Harris,
Director, Office of Vehicle Safety Compliance.

[FR Doc. 2013-07847 Filed 4-3-13; 8:45 am]

BILLING CODE 4910-59-P